DEPARTMENT OF TRANSPORTATION

Federal Aviation Administration

[Docket No. FAA-2025-0788]

Agency Information Collection Activities: Requests for Comments; Clearance of a Renewed Information Collection: Aviation Maintenance Technician Schools

AGENCY: Federal Aviation Administration (FAA), DOT.

ACTION: Notice and request for comments.

SUMMARY: In accordance with the Paperwork Reduction Act of 1995, the FAA invites public comments about our intention to request the Office of Management and Budget (OMB) approval to renew information collection. The collection involves Aviation Maintenance Technician School (AMTS) applicants and certificate holders. The information to be collected will be used to ensure AMTS applicants and certificate holders meet applicable requirements prior to being certificated, and on an ongoing basis following FAA certification.

DATES: Written comments should be submitted by June 23, 2025.

ADDRESSES: Please send written comments:

By Electronic Docket: https://www.regulations.gov (Enter docket number into search field).

By email: Tanya Glines, Tanya.glines@faa.gov.

FOR FURTHER INFORMATION CONTACT: Tanya Glines by email at: Tanya.glines@faa.gov; phone: 202-380-5896.

SUPPLEMENTARY INFORMATION:

Public Comments Invited: You are asked to comment on any aspect of this information collection, including (a) whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0040.

Title: Aviation Maintenance Technician Schools.

Form Numbers: FAA Form 8310-6.

Type of Review: This is a renewal of an information collection.

Background: This information collection summarizes the burden imposed by 14 CFR part 147 regulations, issued under Section 135 of the Aircraft Certification, Safety, and Accountability Act (Pub. L. 116-260). It includes reporting and recordkeeping requirements for Aviation Maintenance Technician Schools (AMTS).

Applicants and certificate holders submit the required information to their FAA Flight Standards office. The FAA uses this information to determine compliance with part 147 requirements for issuing or maintaining an air agency certificate. When applicants meet all requirements, the FAA issues a certificate with the appropriate ratings. For certificated AMTS, the FAA uses the submitted information to verify an AMTS provides appropriate training at each training location, meets quality control system requirements, and ensures that AMTS students receive appropriate documentation showing the student's eligibility to take the FAA mechanic certification tests.

Respondents: Approximately 10 AMTS applicants, and 208 FAA-certificated applicants respond to this collection annually.

Frequency: AMTS applicants respond one time, prior to certification. FAA-certificated AMTS respond occasionally after certification and have ongoing recordkeeping requirements.

Estimated Average Burden per Response: 29 hours/response on average.

Estimated Total Annual Burden: 21,901 hours/year.

Issued in Washington, DC, on April 16, 2025.
Tanya A. Glines,
Aviation Safety Inspector, Office of Safety Standards, Aircraft Maintenance Division, Airman Section.

[FR Doc. 2025-06851 Filed 4-21-25; 8:45 am]

BILLING CODE 4910-13-P